DEPARTMENT OF ENERGY

Federal Energy Regulatory Commission

[Project No. 120-020]

Southern California Edison Company; Notice of Application and Amended Preliminary Draft Environmental Assessment Tendered for Filing With the Commission, and Establishing Procedual Schedule for Licensing and Deadline for Submission of Final Amendments

March 7, 2007.

Take notice that the following hydroelectric application has been filed with the Commission and is available for public inspection.

a. Type of Application: New License for Major Project-Existing Dam.

b. Project No: P-120-020.

c. Date Filed: February 23, 2007.

d. Applicant: Southern California Edison Company.

e. Name of Project: Big Creek No. 3 Hydroelectric Power Project.

f. Location: The Big Creek No. 3 Hydroelectric Project is located in Fresno and Madera Counties, California near the town of Auberry within the San Joaquin River watershed. The Project occupies 377.16 acres of Federal lands.

g. Filed Pursuant to: Federal Power Act 16 U.S.C. 791 (a)-825(r).

h. Applicant Contact: Russ W. Krieger, Vice President, Power Production, Southern California Edison Company, 300 North Lone Hill Ave., San Dimas, California 91773. Phone: (909) 394-8667.

i. FERC Contact: Jim Fargo, (202) 502-6095, or e-mail: james.fargo@ferc.gov.

j. Cooperating Agencies: We are asking Federal, State, local, and tribal agencies with jurisdiction and/or special expertise with respect to environmental issues to cooperate with us in the preparation of the environmental document. Agencies who would like to request cooperating status should follow the instructions for filing comments described in item k below. Agencies granted cooperating status will be precluded from being an intervenor in this proceeding consistent with the Commission's regulations.

k. Deadline for requests for cooperating agency status: 60 days from the date of this notice. All documents (original and eight copies) should be filed with: Philis J. Posey, Acting Secretary, Federal Energy Regulatory Commission, 888 First Street, NE., Washington, DC 20426. Comments may be filed electronically via the Internet in lieu of paper; see 18 CFR 385.2001(a)(1)(iii) and the instructions on the Commission's Web site (http://www.ferc.gov) under the “e-Filing” link. After logging into the e-Filing system, select “Comment on Filing” from the Filing Type Selection screen and continue with the filing and process. The Commission strongly encourages electronic filing.

l. Status: This application has not been accepted for filing. We are not soliciting motions to intervene, protests, or final terms and conditions at this time.

m. Description of Project: The existing Big Creek No. 3 Hydroelectric Power Project consists of one powerhouse; one moderate-sized dam and forebay; and one water conveyance system. The Project is operated as a reservoir-storage type plant with an installed operating capacity of 174.45 MW. Water for the Project is taken from the San Joaquin River just downstream of its confluence with Big Creek and conveyed to the Big Creek No. 3 Powerhouse through Tunnel No. 3. The energy generated by the Project is transmitted to the SCE transmission and distribution system and used for public utility purposes. The project would have an average annual generation of 804,240 megawatt-hours.

• Powerhouse: Big Creek Powerhouse No. 3, with five turbine generator units.

• Moderate-sized dam and forebay: Dam 6 and Dam 6 Impoundment, with a capacity of about 933 ac-ft, at an elevation of about 2,230 ft above mean sea level (msl).

• Water conveyance system: Powerhouse No. 3 water conveyance system, about 5.3 miles long, conveys water from Dam No. 6 Impoundment to Big Creek Powerhouse No. 3 through a tunnel with a capacity of about 3,250 cfs. The system includes a pressure-relief valve system and penstocks providing pressurized water from the tunnel to the turbine.

n. A copy of the application is available for review at the Commission in the Public Reference Room or may be viewed on the Commission's Web site at http://www.ferc.gov using the “eLibrary” link. Enter the docket number excluding the three digits in the docket number field to access the document. For assistance, please contact FERC Online Support at FERCOnlineSupport@ferc.gov or toll free at (866) 208-3676, or for TTY, contact (202) 502-8659. A copy is also available for inspection and reproduction at the address in item h above.

You may also register online at http://www.ferc.gov/docs-filing/esubscription.asp to be notified via e-mail of new filings and issuances related to this or other pending projects. For assistance, contact FERC Online Support.

o. With this notice, we are initiating consultation with the California State Historic Preservation Officer (SHPO), as required by section 106, National Historic Preservation Act, and the regulations of the Advisory Council on Historic Preservation, 36 CFR 800.4.

p. Procedural schedule and final amendments: The application will be processed according to the following Hydro Licensing Schedule. Revisions to the schedule will be made if the Commission determines it necessary to do so:

Milestone | Tentative date
Issue Acceptance/Deficiency Letter and request Additional Information, if needed | June 2007.
Notice asking for final terms and conditions | September 2007.
Notice of the availability of the draft EIS | March 2008.
Notice of the availability of the final EIS | September 2008.

Final amendments to the application must be filed with the Commission no later than 30 days from the issuance date of the notice soliciting final terms and conditions.

Philis J. Posey,
Acting Secretary.

[FR Doc. E7-4477 Filed 3-12-07; 8:45 am]

BILLING CODE 6717-01-P